DEPARTMENT OF TRANSPORTATION

Surface Transportation Board

[STB Docket No. AB-355 (Sub-No. 38X)]

Springfield Terminal Railway Company—Discontinuance of Service Exemption—Cumberland and Oxford Counties, ME

AGENCY: Surface Transportation Board, DOT.

ACTION: Notice of exemption.

SUMMARY: Under 49 U.S.C. 10502, the Board, on its own motion, is exempting a discontinuance from the prior approval requirements of 49 U.S.C. 10903 for Springfield Terminal Railway Company to discontinue its operations over an approximately 43.81-mile rail line extending from milepost 7.3 to milepost 51.11 in Cumberland and Oxford Counties, ME. This exemption is subject to employee protective conditions.

DATES: The exemption is effective retroactively as of December 17, 1994.

ADDRESSES: An original and 10 copies of all pleadings, referring to STB Docket No. AB-355 (Sub-No. 38X), must be filed with the Surface Transportation Board, 395 E Street, SW., Washington, DC 20423-0001. In addition, one copy of all pleadings must be served on petitioner's representative: Robert B. Culliford, Pan Am Railways, Inc., Pease International Airport, Portsmouth, NH 03801.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. Board decisions and notices are available on our Web site at http://www.stb.dot.gov.

Decided: September 16, 2008.
By the Board, Chairman Nottingham, Vice Chairman Mulvey, and Commissioner Buttrey.
Anne K. Quinlan,
Acting Secretary.

[FR Doc. E8-22222 Filed 9-22-08; 8:45 am]

BILLING CODE 4915-01-P